DEPARTMENT OF HOUSING AND URBAN DEVELOPMENT

[Docket No. FR-4854-N-02]

Notice of Regulatory Waiver Requests Granted for the Second Quarter of Calendar Year 2003

AGENCY: Office of the Secretary, HUD.

ACTION: Public notice of the granting of regulatory waivers from April 1, 2003, through June 30, 2003.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2003, and ending on June 30, 2003.

FOR FURTHER INFORMATION CONTACT: For general information about this notice, contact Aaron Santa Anna, Assistant General Counsel for Regulations, Room 10276, Department of Housing and Urban Development, 451 Seventh Street, SW, Washington, DC 20410-0500; telephone (202) 708-3055 (this is not a toll-free number). Hearing- or speech-impaired persons may access this number through TTY by calling the toll-free Federal Information Relay Service at 1-800-877-8339.

For information concerning a particular waiver action for which public notice is provided in this document, contact the person whose name and address follow the description of the waiver granted in the accompanying list of waiver-grant actions.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from April 1, 2003, through June 30, 2003. For ease of reference, the waivers granted by HUD are listed by HUD program office (for example, the Office of Community Planning and Development, the Office of Housing, the Office of Public and Indian Housing, etc.). Within each program office grouping, the waivers are listed sequentially by the regulatory section of title 24 of the Code of Federal Regulations (CFR) that is being waived. For example, a waiver-grant action involving the waiver of a provision in 24 CFR part 58 would come before a waiver of a provision in 24 CFR part 570.

Where more than one regulatory provision is involved in the grant of a particular waiver request, the action is listed under the section number of the first regulatory requirement that appears in 24 CFR and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during July 1, 2003, through September 30, 2003.

Accordingly, information about approved waiver requests pertaining to HUD regulations is provided in the Appendix that follows this notice.

Dated: October 30, 2003.
Alphonso Jackson,
Deputy Secretary.

Appendix— Listing of Waivers of Regulatory Requirements Granted by Offices of the Department of Housing and Urban Development April 1, 2003, Through June 30, 2003

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following waiver actions, please see the name of the contact person who immediately follows the description of the waiver granted.

• Regulation: 24 CFR 570.208(a)(3).

Project/Activity: Ramsey County, MN, Community Development Block Grant (CDBG) Program.

Waiver Request: A waiver to allow Ramsey County to provide CDBG funds to Beaver Creek Carriage Homes for the rehabilitation of the exterior of the buildings in the complex.

Nature of Requirement: Section 570.208(a)(3) provides that eligible activities carried out for the purpose of providing or improving permanent residential structures will be considered to benefit low- and moderate-income households to the extent they are occupied by such households.

Granted By: Nelson A. Bregon, General Deputy Assistant Secretary for Community Planning and Development.

Date Granted: June 26, 2003.

Reasons Waived: Information provided by Ramsey County concludes that after conducting a survey of the residents in the complex, from the data collected, more than 51 percent of the units in these multiple residential buildings, that are not rental buildings, are occupied by low- and moderate-income households. Therefore, HUD allowed a waiver under the authority of 24 CFR 5.110 based on a determination of good cause to waive the requirement at 24 CFR 570.208(a)(3) to allow the county to use CDBG funds for a loan to the Beaver Creek Carriage Homes Association for the rehabilitation of the exterior and common area of three non-rental residential buildings under common ownership and management, 62 percent of which are occupied by low- and moderate-income households. The funds for the low-interest loan will minimize the cost to the unit owners and the association to complete the major improvements necessary to maintain the safety, integrity, and habitability of these housing units.

Contact: Nanci R. Doherty, Special Assistant to the Deputy Assistant Secretary, Community Planning and Development, Department of Housing and Urban Development 451 Seventh Street, SW., Washington, DC 20410-7000; telephone: 202-708-2565.

II. Regulatory Waivers Granted by the Office of Housing

For further information about the following waiver actions, please see the name of the contact person who immediately follows the description of the waiver granted.

• Regulation: 24 CFR part 291, subpart F.

Project/Activity: All Officer Next Door/Teacher Next Door (OND/TND) program participants who have been called to active duty status nationwide.

Nature of Requirement: The Department of Housing and Urban Development is permitting a special accommodation relative to its OND/TND program. The program provides police officers and teachers the opportunity to purchase HUD-owned homes at a significant discount. Among the conditions for participation, police officers and teachers must agree to occupy the property as their primary residence for a mandatory three-year period following the closing date of the sale. Under the terms of the OND/TND contract, participants who do not satisfy the residency requirement must refund a prorated portion of the discount to HUD. Those OND/TND borrowers who are called to active duty at posts outside the commuting area of their hometowns may be unable to satisfy the occupancy requirement. For these individuals, HUD will credit all time served on active duty against the three-year occupancy period. Any person in the “military service” as defined in the determined to be eligible for relief under the provisions of the “Sailors and Soldiers Civil Relief Act of 1940,” may request the special accommodation.

Granted By: John C. Weicher, Assistant Secretary for Housing-Federal Housing Commissioner.

Date Granted: June 25, 2003.

Reason Waived: The waiver provides authority to provide a credit of time for participants in the OND/TND Program, reducing the program occupancy requirement to the time served on active duty military service at a post outside the program participants' hometown commuting area. This waiver recognizes the importance of the service rendered by our military personnel as well as the impossibility of performance of the occupancy period when a military service member is ordered to a post away from home.

Contact: Joseph McCloskey, Director, Office of Single Family Asset Management, Department of Housing and Urban Development, 451 Seventh Street, SW., Washington, DC 20410-8000; telephone: (202) 708-1672.

• Regulation: 24 CFR 200.54(a).

Project/Activity: Sphinx at Murdeaux Villas, Dallas, TX; Project Number: 113-35188.

Nature of Requirement: Section 200.54(a) establishes the procedures for a pro-rata disbursement of the mortgagor's front money escrow funds and Federal Housing Administration (FHA)-insured proceeds for the subject property.

Granted By: John C. Weicher, Assistant Secretary for Housing-Federal Housing Commissioner.

Date Granted: April 17, 2003.

Reason Waived: The regulation was waived since the front money escrow is so large, the insured proceeds would not be disbursed for several months, resulting in payment of extension fees to the investors who purchased the Government National Mortgage Association (GNMA) mortgage-backed securities. Providing a waiver of 24 CFR 200.54(a) permitted the Fort Worth Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: Lancaster Apartments, Gary, IN; Project Number: 073-35582.

Nature of Requirement: Section 200.54(a) establishes the procedures for a pro-rata disbursement of the mortgagor's front money escrow funds and FHA-insured proceeds for the subject property.

Granted By: John C. Weicher, Assistant Secretary for Housing-Federal Housing Commissioner.

Date Granted: April 18, 2003.

Reason Waived: The regulation was waived since the front money escrow is so large, the insured proceeds would not be disbursed for several months, resulting in payment of extension fees to the investors who purchased the Government National Mortgage Association (GNMA) mortgage-backed securities. Providing a waiver of 24 CFR 200.54(a) permitted the Indianapolis Multifamily Program Center to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: Southside Villas, San Antonio, TX, Project Number: 115-35444.

Nature of Requirement: Section 200.54(a) establishes the procedures for a pro-rata disbursement of the mortgagor's front money escrow funds and FHA-insured proceeds for the subject property.

Granted By: John C. Weicher, Assistant Secretary for Housing-Federal Housing Commissioner.

Date Granted: May 12, 2003.

Reason Waived: The regulation was waived since the front money escrow is so large, the insured proceeds would not be disbursed for several months after initial endorsement, resulting in payment of extension fees to the investors who purchased GNMA mortgage-backed securities. Providing a waiver of 24 CFR 200.54(a) permitted the Fort Worth Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: 1135 Broadway Residences, Denver, CO, Project Number: 101-35562.

Nature of Requirement: Section 200.54(a) establishes the procedures for a pro-rata disbursement of the mortgagor's front money escrow funds and FHA-insured proceeds for the subject property.

Granted By: John C. Weicher, Assistant Secretary for Housing-Federal Housing Commissioner.

Date Granted: June 16, 2003.

Reason Waived: The regulation was waived since the front money escrow is so large, the insured proceeds would not be disbursed for several months after initial endorsement, resulting in payment of extension fees to the investors who purchased GNMA mortgage-backed securities. Providing a waiver of 24 CFR 200.54(a) permitted the Denver Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: Montclare Apartments, Phase II, Chicago, IL, Project Number: 071-35725.

Nature of Requirement: Section 200.54(a) establishes the procedures for a pro-rata disbursement of the mortgagor's front money escrow funds and FHA-insured proceeds for the subject property.

Granted By: John C. Weicher, Assistant Secretary for Housing-Federal Housing Commissioner.

Date Granted: June 25, 2003.

Reason Waived: The regulation was waived since the front money escrow is so large, the insured proceeds would not be disbursed for several months after initial endorsement, resulting in payment of extension fees to the investors who purchased GNMA mortgage-backed securities. Providing a waiver of 24 CFR 200.54(a) permitted the Chicago Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 234.1(a).

Project/Activity: Airport Road Townhomes, Snohomish County, WA.

Nature of Requirement: Section 203.43f of HUD's regulations sets forth the eligibility criteria for mortgages covering manufactured homes. Section 234 of HUD's regulations sets forth the eligibility requirements for insurance of individual units in a condominium project. Section 234.1(a) incorporates by reference various provisions of 24 CFR part 203 Subpart A, of the regulations concerning the eligibility requirements of mortgages covering one-to-four-family dwellings under Section 203 of the National Housing Act. Section 234.1(a) also lists specific provisions that are not applicable to mortgages insured under Section 234. Section 203.43f, related to the insurance of mortgages on manufactured homes, is one of the exclusions listed under section 234.1(a).

Granted By: John C. Weicher, Assistant Secretary for Housing-Federal Housing Commissioner.

Date Granted: May 2, 2003.

Reason Waived: Among the primary reasons manufactured homes were initially excluded from eligibility for mortgage insurance as part of condominium projects were concerns about the durability of individual homes and the product's inconsistency with traditional configurations of the early condominium projects (typically garden or high-rise construction). The homes to be developed at Airport Road Townhomes have undergone extensive engineering analyses, first to comply with the Federal Manufactured Home Construction and Safety Standards and then to obtain HUD approval of an Alternate Construction request, which was granted to the manufacturer on December 11, 2000. With the current state of the art and the extensive engineering review, concerns about the durability of this product is minimal.

Contact: Vance T. Morris, Director, Office of Single Family Program Development, Department of Housing and Urban Development, 451 Seventh Street, SW., Washington, DC 20410-8000; telephone: (202) 708-2121.

• Regulation: 24 CFR 401.600.

Project/Activity: The following projects requested waivers to the 12-month limit at above-market rents (24 CFR 491.600):

FHA No. | Project name | State
01257205 | Dean North Apartments | NY
01235484 | Meadowbrook Farms (aka New Paltz) | NY
01257202 | New West 111th Street Phase II | NY
01257142 | Noonan Plaza | NY
08435134 | Springview Gardens | MO
01257159 | Sutter Houses | NY
07135524 | West End Rehab | IL

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: April 16, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone: (202) 708-3856.

• Regulation: 24 CFR 401.600.

Project/Activity: The following projects requested waivers to the 12-month limit at above-market rents (24 CFR 491.600):

FHA No. | Project name | State
8335339 | Town House Apartments | KY
13635643 | Valley Heights | CA
06135371 | Edgewood Housing II | GA
07335448 | The Crossings II Apartments | IN
10235164 | Tumbleweed Apartments | KS
08335274 | Pride Terrace Apartments | KY
05235600 | Franklin Center | MD
01335109 | Ninth Street NSA II | NY
01257162 | Pennsylvania Avenue Apartments | NY
01257180 | Union Gardens I | NY
04235343 | Bay Meadows Apartments | OH
04235345 | Little Bark View | OH
11835102 | McAlester Plaza | OK
05635094 | Vistas De Jagueyes | PR
08735116 | Village Apartments | TN

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: May 20, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 491.600):

FHA No. | Project name | State
01257076 | 1988 Davidson Avenue | NY
01257075 | Davidson Avenue Rehab II | NY
04635663 | Fair Park Apartments | OH
11535193 | Meadow Park Village | TX
08535339 | Minerva Place Apartments | MO
05135322 | Springdale Village | VA
10935050 | Stagecoach Apartments | WY
02435052 | Sugar River Mills Housing | NH
05235300 | Washington Gardens | MD
01735185 | Waterbury NSA II | CT

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: June 18, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone: (202) 708-3856.

• Regulation: 24 CFR 891.100(d).

Project/Activity: Ida B. Wells Apartments, Hartford, CT; Project Number: 017-EE058/CT26-S001-001.

Nature of Requirement: Section 891.100(d) prohibits amendment of the amount of approved capital advance funds prior to initial closing.

Granted By: John C. Weicher, Assistant Secretary for Housing-Federal Housing Commissioner.

Date Granted: April 1, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: ICAN Garden Apartments, Massillon, OH; Project Number: 042-HD090/OH12-Q001-004.

Nature of Requirement: Section 891.100(d) prohibits amendment of the amount of approved capital advance funds prior to initial closing.

Granted By: John C. Weicher, Assistant Secretary for Housing-Federal Housing Commissioner.

Date Granted: April 1, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: NBA Estes Gardens, Tucson, AZ; Project Number: 123-EE082/AZ20-S011-004.

Nature of Requirement: Section 891.100(d) prohibits amendment of the amount of approved capital advance funds prior to initial closing.

Granted By: John C. Weicher, Assistant Secretary for Housing-Federal Housing Commissioner.

Date Granted: April 2, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Oak Tree Apartments, Huntington, WV; Project Number: 045-HD031/WV15-Q001-001.

Nature of Requirement: Section 891.100(d) prohibits amendment of the amount of approved capital advance funds prior to initial closing.

Granted By: John C. Weicher, Assistant Secretary for Housing-Federal Housing Commissioner.

Date Granted: April 3, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: South Philadelphia Presbyterian Apartments, Philadelphia, PA; Project Number: 034-EE113/PA26-S011-003.

Nature of Requirement: Section 891.100(d) prohibits amendment of the amount of approved capital advance funds prior to initial closing.

Granted By: John C. Weicher, Assistant Secretary for Housing-Federal Housing Commissioner.

Date Granted: April 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Snowden House, Dorchester, MA; Project Number: 023-EE115/MA06-S991-009.

Nature of Requirement: Section 891.100(d) prohibits amendment of the amount of approved capital advance funds prior to initial closing.

Granted By: John C. Weicher, Assistant Secretary for Housing-Federal Housing Commissioner.

Date Granted: April 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Covered Bridge Manor, Dover, NH; Project Number: 024-EE059/NH36-S011-001.

Nature of Requirement: Section 891.100(d) prohibits amendment of the amount of approved capital advance funds prior to initial closing.

Granted By: John C. Weicher, Assistant Secretary for Housing-Federal Housing Commissioner.

Date Granted: April 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Fayette Street Project, Concord, NH; Project Number: 024-HD035/NH36-Q011-001.

Nature of Requirement: Section 891.100(d) prohibits amendment of the amount of approved capital advance funds prior to initial closing.

Granted By: John C. Weicher, Assistant Secretary for Housing-Federal Housing Commissioner.

Date Granted: April 22, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Los Jardines Senior Housing, Wilmington, DE; Project Number: 032-EE011/DE26-S011-001.

Nature of Requirement: Section 891.100(d) prohibits amendment of the amount of approved capital advance funds prior to initial closing.

Granted By: John C. Weicher, Assistant Secretary for Housing-Federal Housing Commissioner.

Date Granted: April 28, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Washington Park Elderly, Chicago, IL; Project Number: 071-EE158/IL06-S001-004.

Nature of Requirement: Section 891.100(d) prohibits amendment of the amount of approved capital advance funds prior to initial closing.

Granted By: John C. Weicher, Assistant Secretary for Housing-Federal Housing Commissioner.

Date Granted: April 28, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Valdosta/Lowndes County Options for Living, Valdosta, GA; Project Number: 061-HD080/GA06-Q011-002.

Nature of Requirement: Section 891.100(d) prohibits amendment of the amount of approved capital advance funds prior to initial closing.

Granted By: John C. Weicher, Assistant Secretary for Housing-Federal Housing Commissioner.

Date Granted: May 2, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: St. Theresa's Elder Apartments, Lynn, MA; Project Number: 023-EE133/MA06-S011-005.

Nature of Requirement: Section 891.100(d) prohibits amendment of the amount of approved capital advance funds prior to initial closing.

Granted By: John C. Weicher, Assistant Secretary for Housing-Federal Housing Commissioner.

Date Granted: May 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Harbor Lights Housing, Rockland, ME; Project Number: 024-HD036/ME36-Q011-001.

Nature of Requirement: Section 891.100(d) prohibits amendment of the amount of approved capital advance funds prior to initial closing.

Granted By: John C. Weicher, Assistant Secretary for Housing-Federal Housing Commissioner.

Date Granted: May 9, 2003.

Reason Waived: The sponsor secured additional financing in the amount of $100,000 from the Maine State Housing Authority, and has exhausted means of getting additional funding through other resources. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Ghost Creek Housing, River Falls, WI; Project Number: 075-HD067/WI39-Q001-004.

Nature of Requirement: Section 891.100(d) prohibits amendment of the amount of approved capital advance funds prior to initial closing.

Granted By: John C. Weicher, Assistant Secretary for Housing-Federal Housing Commissioner.

Date Granted: May 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: White Cone Senior Apartments, White Cone, AZ; Project Number: 123-EE077/AZ20-S001-004.

Nature of Requirement: Section 891.100(d) prohibits amendment of the amount of approved capital advance funds prior to initial closing.

Granted By: John C. Weicher, Assistant Secretary for Housing-Federal Housing Commissioner.

Date Granted: May 13, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Rockbridge Meadows Group Home, Lexington, VA; Project Number: 051-HD100/VA36-Q011-003.

Nature of Requirement: Section 891.100(d) prohibits amendment of the amount of approved capital advance funds prior to initial closing.

Granted By: John C. Weicher, Assistant Secretary for Housing-Federal Housing Commissioner.

Date Granted: June 5, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Peake Lane Group Home, Portsmouth, VA; Project Number: 051-HD091/VA36-Q001-006.

Nature of Requirement: Section 891.100(d) prohibits amendment of the amount of approved capital advance funds prior to initial closing.

Granted By: John C. Weicher, Assistant Secretary for Housing-Federal Housing Commissioner.

Date Granted: June 5, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: The Presbyterian Home at Stafford, Stafford Township, NJ; Project Number: 035-EE037/NJ39-S991-001.

Nature of Requirement: Section 891.100(d) prohibits amendment of the amount of approved capital advance funds prior to initial closing.

Granted By: John C. Weicher, Assistant Secretary for Housing-Federal Housing Commissioner.

Date Granted: June 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Southbury Elderly Housing, Southbury, CT; Project Number: 017-EE068/CT26-S011-004.

Nature of Requirement: Section 891.100(d) prohibits amendment of the amount of approved capital advance funds prior to initial closing.

Granted By: John C. Weicher, Assistant Secretary for Housing-Federal Housing Commissioner.

Date Granted: June 19, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Marysville III, Marysville, OH; Project Number: 043-EE074/OH16-S011-002.

Nature of Requirement: Section 891.100(d) prohibits amendment of the amount of approved capital advance funds prior to initial closing.

Granted By: John C. Weicher, Assistant Secretary for Housing-Federal Housing Commissioner.

Date Granted: June 19, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: GIBB-Springfield Village, Springfield, FL; Project Number: 063-HD018/FL29-Q011-001.

Nature of Requirement: Section 891.100(d) prohibits amendment of the amount of approved capital advance funds prior to initial closing.

Granted By: John C. Weicher, Assistant Secretary for Housing-Federal Housing Commissioner.

Date Granted: June 26, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Arlington Cooperative Apartments, Baltimore, MD; Project Number: 052-EE040/MD06-S011-003.

Nature of Requirement: Section 891.100(d) prohibits amendment of the amount of approved capital advance funds prior to initial closing.

Granted By: John C. Weicher, Assistant Secretary for Housing-Federal Housing Commissioner.

Date Granted: June 30, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Myrtle Davis Senior Complex, Milwaukee, WI; Project Number: 075-EE095/WI39-S001-003.

Nature of Requirement: Section 891.100(d) prohibits amendment of the amount of approved capital advance funds prior to initial closing.

Granted By: John C. Weicher, Assistant Secretary for Housing-Federal Housing Commissioner.

Date Granted: June 30, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Cutler Street, Providence, RI; Project Number: 016-HD034/RI43-Q011-001

Nature of Requirement: Section 891.100(d) prohibits amendment of the amount of approved capital advance funds prior to initial closing.

Granted By: John C. Weicher, Assistant Secretary for Housing-Federal Housing Commissioner.

Date Granted: June 30, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Highbridge Senior Housing, Bronx, NY; Project Number: 012-EE248/NY36-S981-004.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: April 3, 2003.

Reason Waived: The sponsor exhausted all efforts to obtain additional funding. The project is economically designed and is comparable in cost to similar projects developed in the area. The project experienced delays due to litigation involving the city's ability to convey the site to the owner corporation for development purposes.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Falcon Park III, Warner Robins, GA; Project Number: 061HD067/GA06-Q981-006.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: April 16, 2003.

Reason Waived: The sponsor exhausted all efforts to obtain additional funding. The project is economically designed and is comparable in cost to similar projects developed in the area. The project experienced delays due to the need to obtain a new contractor twice.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Cedars II, Lebanese Community Housing, Methuen, MA; Project Number: 023-EE109/MA06-S991-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: May 29, 2003.

Reason Waived: The sponsor exhausted all efforts to obtain additional funding. The project is economically designed and is comparable in cost to similar projects developed in the area. The project was delayed due to the sponsor's extensive efforts to obtain secondary financing.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Mount Ephraim Senior Housing, Mt. Ephraim, NJ; Project Number: 035-EE041/NJ39-S001-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: June 24, 2003.

Reason Waived: The sponsor exhausted all efforts to obtain additional funding to cover the development cost shortfall from other sources. The project is economically designed and is comparable in cost to similar projects developed in the area. The project was delayed due to the need to resolve cost issues and additional time was needed for the project to reach initial closing.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Lincoln Street Apts., Marlboro, MA; Project Number: 023-HD162/MA06-Q991-010.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: June 30, 2003.

Reason Waived: The sponsor exhausted all efforts to obtain additional funding. The project is economically designed and is comparable in cost to similar projects developed in the area. The project was delayed due to the sponsor's extensive efforts to obtain secondary financing.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Cross Street, Wellesley, MA; Project Number: 023-HD159/MA06Q991-007.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: June 30, 2003.

Reason Waived: The sponsor exhausted all efforts to obtain additional funding. The project is economically designed and is comparable in cost to similar projects developed in the area. The project was delayed due to the sponsor's extensive efforts to obtain secondary financing and the revision of the plans and specs.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Mountain View Homes, McConnellsburg, PA; Project Number: 033-EE106/PA28-S001-004.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: June 30, 2003.

Reason Waived: The sponsor exhausted all efforts to obtain additional funding. The project is economically designed and is comparable in cost to similar projects developed in the area. The project was delayed due to the need to resolve issues regarding a shortage of potable water and the protection of wetlands areas at the site.

Contact: Willie Spearmon, Director, Office of Housing Assistance and Grant Administration, Department of Housing and Urban Development, 451 Seventh Street, SW., Washington, DC 20410-8000; telephone: (202) 708-3000.

• Regulation: 24 CFR 891.165.

Project/Activity: Stephen's County Village, Gulfport, MS; Project Number: 065-EE031/MS26-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 1, 2003.

Reason Waived: The project incurred delays because one of the original sponsors withdrew, a new site needed to be located, and sewage capacity issues with the city needed additional time to resolve.

Contact: Willie Spearmon, Director, Office of Housing Assistance and Grant Administration, Department of Housing and Urban Development, 451 Seventh Street, SW., Washington, DC 20410-8000; telephone: (202) 708-3000.

• Regulation: 24 CFR 891.165.

Project/Activity: Las Golondrinas, San Jose, CA; Project Number: 121-EE138/CA39-S001-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 1, 2003.

Reason Waived: The project was delayed due to contamination remediation and rezoning issues with the city of San Jose.

Contact: Willie Spearmon, Director, Office of Housing Assistance and Grant Administration, Department of Housing and Urban Development, 451 Seventh Street, SW., Washington, DC 20410-8000; telephone: (202) 708-3000.

• Regulation: 24 CFR 891.165.

Project/Activity: South Hill Elderly, South Hill, VA; Project Number: 051-EE962/VA36-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 2, 2003.

Reason Waived: The project was delayed because the sponsor needed additional time to locate another site.

Contact: Willie Spearmon, Director, Office of Housing Assistance and Grant Administration, Department of Housing and Urban Development, 451 Seventh Street, SW., Washington, DC 20410-8000; telephone: (202) 708-3000.

• Regulation: 24 CFR 891.165.

Project/Activity: Kennedy Institute II, Berwyn Heights, MD; Project Number: 000-HD045/MD39-Q991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 9, 2003.

Reason Waived: A change in consultants caused the project to experience delays.

Contact: Willie Spearmon, Director, Office of Housing Assistance and Grant Administration, Department of Housing and Urban Development, 451 Seventh Street, SW., Washington, DC 20410-8000; telephone: (202) 708-3000.

• Regulation: 24 CFR 891.165.

Project/Activity: Simpson Mid-Town Apts., Philadelphia, PA; Project Number: 034-EE107/PA26-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 9, 2003.

Reason Waived: The project was delayed due to various site and legal issues.

Contact: Willie Spearmon, Director, Office of Housing Assistance and Grant Administration, Department of Housing and Urban Development, 451 Seventh Street, SW., Washington, DC 20410-8000; telephone: (202) 708-3000.

• Regulation: 24 CFR 891.165.

Project/Activity: Housing Opportunity Corporation, North Providence, RI; Project Number: 016-EE035/RI43-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 9, 2003.

Reason Waived: The project was delayed because the sponsor needed additional time to locate another site.

Contact: Willie Spearmon, Director, Office of Housing Assistance and Grant Administration, Department of Housing and Urban Development, 451 Seventh Street, SW., Washington, DC 20410-8000, telephone: (202) 708-3000.

• Regulation: 24 CFR 891.165.

Project/Activity: Pelican Lake Housing Corporation, Eagle River, WI; Project Number: 075-HD066/WI39-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: Additional time was needed for the sponsor to obtain additional funding from other sources.

Contact: Willie Spearmon, Director, Office of Housing Assistance and Grant Administration, Department of Housing and Urban Development, 451 Seventh Street, SW., Washington, DC 20410-8000; telephone: (202) 708-3000.

• Regulation: 24 CFR 891.165.

Project/Activity: Bradstreet Avenue Residence, Revere, MA; Project Number: 023-HD140/MA06-Q981-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: Changes in the development team required by HUD caused the project to be delayed.

Contact: Willie Spearmon, Director, Office of Housing Assistance and Grant Administration, Department of Housing and Urban Development, 451 Seventh Street, SW., Washington, DC 20410-8000; telephone: (202) 708-3000.

• Regulation: 24 CFR 891.165.

Project/Activity: Luther Ridge, Middletown, CT; Project Number: 017-EE053/CT26-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: The project had been delayed pending resolution of issues involving its condominium structure.

Contact: Willie Spearmon, Director, Office of Housing Assistance and Grant Administration, Department of Housing and Urban Development, 451 Seventh Street, SW., Washington, DC 20410-8000; telephone: (202) 708-3000.

• Regulation: 24 CFR 891.165.

Project/Activity: Snowden House, Dorchester, MA; Project Number: 023-EE115/MA06-S991-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: A change in general contractors caused the project to experience delays.

Contact: Willie Spearmon, Director, Office of Housing Assistance and Grant Administration, Department of Housing and Urban Development, 451 Seventh Street, SW., Washington, DC 20410-8000; telephone: (202) 708-3000.

• Regulation: 24 CFR 891.165.

Project/Activity: TBD, East Providence, RI, Project Number: 016-HD033/RI43-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: The project was delayed due to lengthy ongoing litigation involving a zoning variance for the site.

Contact: Willie Spearmon, Director, Office of Housing Assistance and Grant Administration, Department of Housing and Urban Development, 451 Seventh Street, SW., Washington, DC 20410-8000; telephone: (202) 708-3000.

• Regulation: 24 CFR 891.165.

Project/Activity: Pathways, Greenwich, CT; Project Number: 017-HD022/CT26-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 16, 2003.

Reason Waived: The project was delayed due to litigation and problems with the Town of Greenwich Planning and Zoning Commission.

Contact: Willie Spearmon, Director, Office of Housing Assistance and Grant Administration, Department of Housing and Urban Development, 451 Seventh Street, SW., Washington, DC 20410-8000; telephone: (202) 708-3000.

• Regulation: 24 CFR 891.165.

Project/Activity: Roberts Street Apts., West Warwick, RI; Project Number: 0016-HD031/RI43-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 18, 2003.

Reason Waived: The project was delayed because additional time was needed for the sponsor to complete and HUD to process the firm commitment.

Contact: Willie Spearmon, Director, Office of Housing Assistance and Grant Administration, Department of Housing and Urban Development, 451 Seventh Street, SW, Washington, DC 20410-8000; telephone: (202) 708-3000.

• Regulation: 24 CFR 891.165.

Project/Activity: South Daytona Good Samaritan Housing, South Daytona Beach, FL; Project Number: 067-EE111/FL29-S001-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 22, 2003.

Reason Waived: Delays were incurred by the project due to the sponsor/owner's lengthy efforts to obtain additional funding from other sources.

Contact: Willie Spearmon, Director, Office of Housing Assistance and Grant Administration, Department of Housing and Urban Development, 451 Seventh Street, SW, Washington, DC 20410-8000; telephone: (202) 708-3000.

• Regulation: 24 CFR 891.165.

Project/Activity: Ghost Creek Housing, River Falls, WI; Project Number: 075-HD067/WI39-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 22, 2003.

Reason Waived: Additional time was needed for the sponsor/owner to rebid the project and select a new contractor. Additional time was also needed for the HUD field office to review the revised firm commitment application.

Contact: Willie Spearmon, Director, Office of Housing Assistance and Grant Administration, Department of Housing and Urban Development, 451 Seventh Street, SW, Washington, DC 20410-8000; telephone: (202) 708-3000.

• Regulation: 24 CFR 891.165.

Project/Activity: Venable Apartments at Stadium Place, Baltimore, MD; Project Number: 052-EE036/MD39-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 25, 2003.

Reason Waived: Additional time was needed for the HUD field office to process the firm commitment application and for the project to reach initial closing.

Contact: Willie Spearmon, Director, Office of Housing Assistance and Grant Administration, Department of Housing and Urban Development, 451 Seventh Street, SW, Washington, DC 20410-8000; telephone: (202) 708-3000.

• Regulation: 24 CFR 891.165.

Project/Activity: Hillsborough County VOA Living Center III, Tampa, FL; Project Number: 067-HD080/FL29-Q001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 28, 2003.

Reason Waived: Additional time was needed for additional funds to be received.

Contact: Willie Spearmon, Director, Office of Housing Assistance and Grant Administration, Department of Housing and Urban Development, 451 Seventh Street, SW, Washington, DC 20410-8000; telephone: (202) 708-3000.

• Regulation: 24 CFR 891.165.

Project/Activity: Pine Street Inn, Dorchester, MA; Project Number: 023-EE098/MA06-S091-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: April 29, 2003.

Reason Waived: The sponsor/owner had to locate an alternate site, and the HUD field office had to process the firm commitment application.

Contact: Willie Spearmon, Director, Office of Housing Assistance and Grant Administration, Department of Housing and Urban Development, 451 Seventh Street, SW, Washington, DC 20410-8000; telephone: (202) 708-3000.

• Regulation: 24 CFR 891.165.

Project/Activity: Mount St. Mary's, Tonawanda, NY; Project Number: 014-EE198/NY06-S001-004.

Nature Of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: The sponsor needed additional time to resolve a funding shortfall for the additional 10 units being constructed with the Section 202 units.

Contact: Willie Spearmon, Director, Office of Housing Assistance and Grant Administration, Department of Housing and Urban Development, 451 Seventh Street, SW, Washington, DC 20410-8000; telephone: (202) 708-3000.

• Regulation: 24 CFR 891.165.

Project/Activity: Ormont Court, New Haven, CT; Project Number: 017-EE059/CT26-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: Additional time was needed for the owner to resolve a site issue and to obtain HOME funds from the city.

Contact: Willie Spearmon, Director, Office of Housing Assistance and Grant Administration, Department of Housing and Urban Development, 451 Seventh Street, SW, Washington, DC 20410-8000; telephone: (202) 708-3000.

• Regulation: 24 CFR 891.165.

Project/Activity: Larchmont Residence, Dorchester, MA, Project Number: 023-HD166/MA06-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: Additional time was needed for the HUD field office to process the firm commitment application and for the project to reach initial closing.

Contact: Willie Spearmon, Director, Office of Housing Assistance and Grant Administration, Department of Housing and Urban Development, 451 Seventh Street, SW, Washington, DC 20410-8000; telephone: (202) 708-3000.

• Regulation: 24 CFR 891.165.

Project/Activity: Cottonwood Manor VII, Cottonwood, AZ; Project Number: 123-EE075/AZ20-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: The project had to be redesigned and reengineered in order to obtain the city's approval. Additional time was needed for the sponsor to locate additional funds.

Contact: Willie Spearmon, Director, Office of Housing Assistance and Grant Administration, Department of Housing and Urban Development, 451 Seventh Street, SW, Washington, DC 20410-8000; telephone: (202) 708-3000.

• Regulation: 24 CFR 891.165.

Project/Activity: Ida B. Wells Apartments, Hartford, CT; Project Number: 017-EE058/CT26-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: An identity of interest was identified, and the sponsor needed additional time to restructure the development team.

Contact: Willie Spearmon, Director, Office of Housing Assistance and Grant Administration, Department of Housing and Urban Development, 451 Seventh Street, SW, Washington, DC 20410-8000; telephone: (202) 708-3000.

• Regulation: 24 CFR 891.165.

Project/Activity: St. Andrews of Jennings Phase II, Jennings, MO; Project Number: 085-EE049/MO036-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: Additional time was needed for the owner to address deficiencies found in the initial closing documents.

Contact: Willie Spearmon, Director, Office of Housing Assistance and Grant Administration, Department of Housing and Urban Development, 451 Seventh Street, SW, Washington, DC 20410-8000; telephone: (202) 708-3000.

• Regulation: 24 CFR 891.165.

Project/Activity: Villa Seton, Port St. Lucie, FL; Project Number: 067-EE107/FL29-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: The project was delayed due to the sponsor's efforts to obtain amendment funds.

Contact: Willie Spearmon, Director, Office of Housing Assistance and Grant Administration, Department of Housing and Urban Development, 451 Seventh Street, SW., Washington, DC 20410-8000; telephone: (202) 708-3000.

• Regulation: 24 CFR 891.165.

Project/Activity: Nonantum Village Place, Newton, MA; Project Number: 023-EE126/MA06-S001-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 8, 2003.

Reason Waived: Additional time was needed for the HUD field office to process the firm commitment application and for the project to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: St. Brendan Senior Housing, Chicago, IL; Project Number: 071-EE159/IL06-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 9, 2003.

Reason Waived: The project had to be redesigned after the city withdrew its funding for the development of a senior center on the first floor of the project. The HUD field office needed additional time to process the firm commitment application.

Contact: Willie Spearmon, Director, Office of Housing Assistance and Grant Administration, Department of Housing and Urban Development, 451 Seventh Street, SW., Washington, DC 20410-8000; telephone: (202) 708-3000.

• Regulation: 24 CFR 891.165.

Project/Activity: Bridgeway Apartments II, Picayune, MS; Project Number: 065-HD025/MS26-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 14, 2003.

Reason Waived: Delays were incurred by the owner in preparing the initial closing package because a consultant was ill.

Contact: Willie Spearmon, Director, Office of Housing Assistance and Grant Administration, Department of Housing and Urban Development, 451 Seventh Street, SW., Washington, DC 20410-8000; telephone: (202) 708-3000.

• Regulation: 24 CFR 891.165.

Project/Activity: Trinity Terrace, Fort Washington, MD; Project Number: 000-EE054/MD39-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 14, 2003.

Reason Waived: Additional time was needed to resolve issues regarding the ground lease for the project.

Contact: Willie Spearmon, Director, Office of Housing Assistance and Grant Administration, Department of Housing and Urban Development, 451 Seventh Street, SW., Washington, DC 20410-8000; telephone: (202) 708-3000.

• Regulation: 24 CFR 891.165.

Project/Activity: North Capitol at Plymouth, Washington, DC; Project Number: 000-EE053/DC39-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 19, 2003.

Reason Waived: The project was delayed due to additional time needed by the sponsor to obtain supplemental funding.

Contact: Willie Spearmon, Director, Office of Housing Assistance and Grant Administration, Department of Housing and Urban Development, 451 Seventh Street, SW., Washington, DC 20410-8000; telephone: (202) 708-3000.

• Regulation: 24 CFR 891.165.

Project/Activity: Vermont Seniors, Los Angeles, CA; Project Number: 122-EE148/CA16-S981-017.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: May 22, 2003.

Reason Waived: Delays were incurred by the project because the sponsor needed to obtain secondary financing.

Contact: Willie Spearmon, Director, Office of Housing Assistance and Grant Administration, Department of Housing and Urban Development, 451 Seventh Street, SW, Washington, DC 20410-8000; telephone: (202) 708-3000.

• Regulation: 24 CFR 891.165.

Project/Activity: Phoenix Volunteers of American Elderly Housing, Phoenix, AZ; Project Number: 123-EE078/AZ20-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 5, 2003.

Reason Waived: Delays were incurred by the project because the sponsor was waiting for the city and state to approve HOME funds.

Contact: Willie Spearmon, Director, Office of Housing Assistance and Grant Administration, Department of Housing and Urban Development, 451 Seventh Street, SW, Washington, DC 20410-8000; telephone: (202) 708-3000

• Regulation: 24 CFR 891.165.

Project/Activity: National Church Residence (NCR) of Harborcreek, Harborcreek, PA; Project Number: 033-EE105/PA28-S001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 5, 2003.

Reason Waived: Delays were encountered by the project because it had to be redesigned due to contamination discovered after a geotechnical evaluation of the site. Additional time was needed for the sponsor to secure final approval from the local planning commission.

Contact: Willie Spearmon, Director, Office of Housing Assistance and Grant Administration, Department of Housing and Urban Development, 451 Seventh Street, SW, Washington, DC 20410-8000; telephone: (202) 708-3000.

• Regulation: 24 CFR 891.165.

Project/Activity: Village Supervised Apartments, Hamilton Township, NJ; Project Number: 035-HD034/NJ39-Q961-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 10, 2003.

Reason Waived: The sponsor had to change sites in order to meet HUD's accessibility requirements.

Contact: Willie Spearmon, Director, Office of Housing Assistance and Grant Administration, Department of Housing and Urban Development, 451 Seventh Street, SW, Washington, DC 20410-8000; telephone: (202) 708-3000.

• Regulation: 24 CFR 891.165.

Project/Activity: Riley House, Hyde Park, MA; Project Number: 023-EE111/MA06-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 11, 2003.

Reason Waived: Additional time was needed for the HUD field office to process the firm commitment application and for the project to reach initial closing.

Contact: Willie Spearmon, Director, Office of Housing Assistance and Grant Administration, Department of Housing and Urban Development, 451 Seventh Street, SW, Washington, DC 20410-8000; telephone: (202) 708-3000.

• Regulation: 24 CFR 891.165.

Project/Activity: Orchardfield Street Residence, Dorchester, MA; Project Number: 023-HD154/MA06-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 19, 2003.

Reason Waived: Additional time was needed for the HUD field office to process the firm commitment application and for the project to reach initial closing.

Contact: Willie Spearmon, Director, Office of Housing Assistance and Grant Administration, Department of Housing and Urban Development, 451 Seventh Street, SW, Washington, DC 20410-8000; telephone: (202) 708-3000.

• Regulation: 24 CFR 891.165.

Project/Activity: Maui Kokua, Kahului, HI; Project Number: 140-HD023/HI110-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 19, 2003.

Reason Waived: The project was delayed because approval from Headquarters was needed to change one of the sites and separate the funding for two sites.

Contact: Willie Spearmon, Director, Office of Housing Assistance and Grant Administration, Department of Housing and Urban Development, 451 Seventh Street, SW., Washington, DC 20410-8000; telephone: (202) 708-3000.

• Regulation: 24 CFR 891.165.

Project/Activity: Creekside Gardens, Paso Robles, CA; Project Number: 122-EE162/CA16-S991-013.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 23, 2003.

Reason Waived: Additional time was needed for the HUD field office to process the firm commitment application.

Contact: Willie Spearmon, Director, Office of Housing Assistance and Grant Administration, Department of Housing and Urban Development, 451 Seventh Street, SW., Washington, DC 20410-8000; telephone: (202) 708-3000.

• Regulation: 24 CFR 891.165.

Project/Activity: Rhinelander Disabled Housing, Rhinelander, WI; Project Number: 075-HD063/WI39-Q991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: June 26, 2003.

Reason Waived: Delays were experienced by the project due to various problems with site control and obtaining an acceptable site.

Contact: Willie Spearmon, Director, Office of Housing Assistance and Grant Administration, Department of Housing and Urban Development, 451 Seventh Street, SW., Washington, DC 20410-8000; telephone: (202) 708-3000.

• Regulation: 24 CFR 891.205.

Project/Activity: Rochester III Elderly Housing, Rochester, NH; Project Number: 024-EE063/NH36-S011-002.

Nature of Requirement: Section 891.205 provides that Section 202 project owners be single-purpose corporations.

Granted By: John C. Weicher, Assistant Secretary for Housing-Federal Housing Commissioner.

Date Granted: May 14, 2003.

Reason Waived: One owner entity would result in better utilization of the site by allowing two projects on one site. Also, the owner for Rochester III Elderly Housing had not yet been established.

Contact: Willie Spearmon, Director, Office of Housing Assistance and Grant Administration, Department of Housing and Urban Development, 451 Seventh Street, SW., Washington, DC 20410-8000; telephone: (202) 708-3000.

• Regulation: 24 CFR 891.410(c).

Project/Activity: Lincoln Unity Apartments, West Hamlin, WV; Project Number: 045-EH098.

Nature of Requirement: Section 891.410 relates to admission of families to projects for elderly or handicapped families that received reservations under Section 202 of the Housing Act of 1959 and housing assistance under Section 8 of the U.S. Housing Act of 1937. Section 891.410(c) limits occupancy to very low-income elderly persons; that is, households of one or more persons at least one of whom is 62 years of age at the time of initial occupancy.

Granted by: John C. Weicher, Assistant Secretary for Housing-Federal Housing Commissioner.

Date Granted: May 9, 2003.

Reason Waived: The Charleston Multifamily Program Center requested permission to waive the age requirements of the subject property. The owner/management agent of the subject project had requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy, and the project will not fail. This waiver is effective for one year from date of approval.

Contact: Beverly J. Miller, Director, Office of Asset Management, Department of Housing and Urban Development, 451 Seventh Street, SW., Room 6160, Washington, DC 20410-8000; telephone: (202) 708-3730.

• Regulation: 24 CFR 891.410(c).

Project/Activity: Sawtooth Ridges, Grand Marais, MN; Project Number: 092-EE007.

Nature of Requirement: Section 891.410 relates to admission of families to projects for elderly or handicapped families that received reservations under Section 202 of the Housing Act of 1959 and housing assistance under Section 8 of the U.S. Housing Act of 1937. Section 891.410(c) limits occupancy to very low-income elderly persons; that is, households of one or more persons at least one of whom is 62 years of age at the time of initial occupancy.

Granted by: John C. Weicher, Assistant Secretary for Housing-Federal Housing Commissioner.

Date Granted: May 12, 2003.

Reason Waived: The Minneapolis-St. Paul Multifamily Hub requested permission to waive the age requirements of the subject property. The owner/management agent of the subject project had requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy, and the project will not fail. This waiver is effective for one year from date of approval.

Contact: Beverly J. Miller, Director, Office of Asset Management, Department of Housing and Urban Development, 451 Seventh Street, SW., Room 6160, Washington, DC 20410-8000; telephone: (202) 708-3730.

• Regulation: 24 CFR 891.410(c).

Project/Activity: Red Lion Elderly Housing, Randolph, VT; Project Number: 024-EE034.

Nature of Requirement: Section 891.410 relates to admission of families to projects for elderly or handicapped families that received reservations under Section 202 of the Housing Act of 1959 and housing assistance under Section 8 of the U.S. Housing Act of 1937. Section 891.410(c) limits occupancy to very low-income elderly persons; that is, households of one or more persons at least one of whom is 62 years of age at the time of initial occupancy.

Granted by: John C. Weicher, Assistant Secretary for Housing-Federal Housing Commissioner.

Date Granted: May 14, 2003.

Reason Waived: The Manchester Multifamily Program Center requested permission to waive the age requirements of the subject property. The owner/management agent of the subject project had requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy and the project will not fail. This waiver is effective for one year from date of approval.

Contact: Beverly J. Miller, Director, Office of Asset Management, Department of Housing and Urban Development, 451 Seventh Street, SW., Room 6160, Washington, DC 20410-8000; telephone: (202) 708-3730.

III. Regulatory Waivers Granted by the Office of Public and Indian Housing

For further information about the following waiver actions, please see the name of the contact person who immediately follows the description of the waiver granted.

• Regulation: 24 CFR 761.30.

Project/Activity: Extension request by the White Mountain Apache Housing Authority for their FY 2000 Indian Housing Drug Elimination Program (IHDEP) Grant.

Nature of Requirement: Section 761.30 establishes a provision whereby grantees can request only a six-month extension beyond the original grant period to complete their grant.

Reason Waived: All project work on the grant was stopped as the result of the Chediski and Rodeo fires on the Reservation. The police department resources assisting with the grant implementation were redirected to emergency assistance efforts related to the fire. As a result, the project was delayed.

Granted By: Michael Liu, Assistant Secretary for Public and Indian Housing.

Date Granted: April 9, 2003.

Contact: Deborah Lalancette, Director, Grants Management, Denver Program ONAP, Department of Housing and Urban Development, 1999 Broadway, Suite 3390, Denver, CO 80202-5733; telephone: (303) 675-1625.

• Regulation: 24 CFR 902.33(c).

Project/Activity: Housing Authority of the city of Loveland (CO034), Loveland, CO.

Nature of Requirement: Section 902.33(c) concerns reporting compliance dates. Unaudited financial statements will be required two months after the PHA's fiscal year end, and audited financial statements will be required no later than nine months after the PHA's fiscal year end, in accordance with the Single Audit Act and OMB Circular A-133.

Granted By: Paula Blunt, General Deputy Assistant Secretary for Public and Indian Housing.

Date Granted: May 14, 2003.

Reason Waived: HA requested a waiver (extension of time) to file its audited financial data. Waiver request indicates that several attempts were made in advance of the due date to communicate with the HA's external auditor regarding the audited submission. The audited data was not submitted by the external auditor in a timely manner.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: HA of the city of Buhl (ID010), Buhl, ID.

Nature of Requirement: Section 902.33(c) concerns reporting compliance dates. Unaudited financial statements will be required two months after the PHA's fiscal year end, and audited financial statements will be required no later than nine months after the PHA's fiscal year end, in accordance with the Single Audit Act and OMB Circular A-133.

Granted By: Paula Blunt, General Deputy Assistant Secretary for Public and Indian Housing.

Date Granted: May 27, 2003.

Reason Waived: The Buhl Housing Authority (BHA) requested a waiver (extension of time) to submit its audited submission. The PHA received a Late Presumptive Failure (LPF) that resulted in a score of zero out of 30 points. HA encountered system problems in its attempt to submit its audited FASS Information.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Christian County HA (IL038), Pana, IL.

Nature of Requirement: Section 902.33(c) concerns reporting compliance dates. Unaudited financial statements will be required two months after the PHA's fiscal year end, and audited financial statements will be required no later than nine months after the PHA's fiscal year end, in accordance with the Single Audit Act and OMB Circular A-133.

Granted By: William Russell, Deputy Assistant Secretary for Public Housing and Voucher Programs.

Date Granted: June 23, 2003.

Reason Waived: HA requested a waiver (extension of time) to submit its unaudited financial data. HA indicated that the transition to a new Executive Director and need to hire a fee accountant to reconstruct the financial Records affected the HA's ability to submit financial data prior to the November 30, 2002, due date.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Corbin (KY010), Corbin, KY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Newport (KY015), Newport, KY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Whitesburg (KY044), Whitesburg, KY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Campbellsville Housing and Redevelopment Authority (KY047), Campbellsville, KY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Lawrence (KY086), Louisa, KY.

Nature of Requirement: Section 902.33(c) concerns reporting compliance dates: Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Irvington (KY101), Irvington, KY.

Nature of Requirement: Section 902.33(c) reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of Scottsville (KY104), Scottsville, KY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 26, 2003.

Reason Waived: The Louisville Field Office requested a waiver (extension of time) for submission of the HA's audited financial data. HA received a Late Presumptive Failure (LPF) and received a score of zero out of 30 points. HA's external auditor was responsible for the financial submission and failed to submit the data to the Real Estate Assessment Center (REAC) in a timely manner. The auditor has since been issued a Limited Denial of Participation (LDP) for his failure to submit financial data for this period as well as for his failure to submit timely data to REAC in prior years.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of the Town of Simmesport (LA072), Simmesport, LA.

Nature of Requirement: Section 902.33(c) concerns reporting compliance dates: Unaudited financial statements will be required two months after the PHA's fiscal year end, and audited financial statements will be required no later than nine months after the PHA's fiscal year end, in accordance with the Single Audit Act and OMB Circular A-133.

Granted By: William Russell, Deputy Assistant Secretary for Public Housing and Voucher Programs.

Date Granted: June 23, 2003.

Reason Waived: HA requested a waiver (extension of time) to submit its audited financial data. HA experienced managerial problems during 2002. The Louisiana Legislative Auditor issued an audit report concerning potential fraudulent actions by the previous Executive Director. The HA is working to correct problems noted in the Legislative Auditor's report and will not be able to complete its 9/30/03 due date submission. HA granted until December 1, 2003, to submit its data.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Bernalillo County Housing Department (NM057), Albuquerque, NM.

Nature of Requirement: Section 902.33(c) concerns reporting compliance dates. Unaudited financial statements will be required two months after the PHA's fiscal year end, and audited financial statements will be required no later than nine months after the PHA's fiscal year end, in accordance with the Single Audit Act and OMB Circular A-133.

Granted By: Paula Blunt, for Michael Liu, Assistant Secretary for Public and Indian Housing.

Date Granted: April 18, 2003.

Reason Waived: The HA requested a waiver (extension of time) to submit its audited financial data. The Bernalillo County Housing Department is a component of Bernalillo County. The HA cannot submit its audited financial data until the County completes its audit. This issue has hindered the HA's ability to submit its audited report in a timely manner.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Hudson Housing Authority (NY061), Hudson, NY.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: June 9, 2003.

Reason Waived: HA requested a waiver (extension of time) to file its Management data. HA received a Late Presumptive Failure (LPF) score of zero out of 30 points and Troubled Designation. The HA's request indicates that significant criminal activity on the premises caused on August 22, 2002, and November 26, 2002, created a distraction during the period the Management Operations Assessment Sub System (MASS) submission was due. HA also indicated that it changed its email addresses, but did not notify REAC of the change and did not receive late notices sent by REAC.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Town of Johnston Housing Authority (RI009), Johnston, RI.

Nature of Requirement: Section 902.33(c) concerns reporting compliance dates. Unaudited financial statements will be required two months after the PHA's fiscal year end, and audited financial statements will be required no later than nine months after the PHA's fiscal year end, in accordance with the Single Audit Act and OMB Circular A-133.

Granted By: Paula Blunt, General Deputy Assistant Secretary for Public and Indian Housing.

Date Granted: June 9, 2003.

Reason Waived: The HA's appeal request was treated as a waiver (extension of time) to file its financial data. According to the HA's request, its external auditor was unable to complete the financial audit in a timely manner. The audited financial data was due September 30, 2002, but submitted to REAC on November 13, 2002. A memorandum from the external auditor to REAC indicated that while the HA fully cooperated during the course of the audit, the auditor was at fault for the late filing.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: West Warwick Housing Authority (RI015), West Warwick, RI.

Nature of Requirement: Section 902.33(c) concerns reporting compliance dates. Unaudited financial statements will be required two months after the PHA's fiscal year end, and audited financial statements will be required no later than nine months after the PHA's fiscal year end, in accordance with the Single Audit Act and OMB Circular A-133.

Granted By: Paula Blunt, General Deputy Assistant Secretary for Public and Indian Housing.

Date Granted: June 5, 2003.

Reason Waived: HA requested a waiver (extension of time) to submit its financial data. According to the HA's request, its external auditor was unable to complete the financial audit in a timely manner. The audited financial statements were due September 30, 2002, but were submitted to REAC on January 8, 2003. A memorandum from the external auditor to REAC indicates that while the HA fully cooperated during the course of the audit, the auditor was at fault for the late filing because of his busy schedule.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Maryville Housing Authority (TN065), Maryville, TN.

Nature of Requirement: Section 902.33(c) concerns reporting compliance dates. Unaudited financial statements will be required two months after the PHA's fiscal year end, and audited financial statements will be required no later than nine months after the PHA's fiscal year end, in accordance with the Single Audit Act and OMB Circular A-133.

Granted By: William Russell, Deputy Assistant Secretary for Public Housing and Voucher Programs.

Date Granted: June 23, 2003.

Reason Waived: HA requested a waiver (extension of time) to submit its audited financial data. The request indicates that the HA procured an auditor for fiscal year ending December 31, 2002. In March 2003, the auditor withdrew from the audit engagement, citing a loss of staff. After additional efforts, the HA was able to engage an auditor who will conduct the financial audit for FY2002.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: Housing Authority of the city of Palacios TX.

Nature of Requirement: Section 902.33(c) concerns reporting compliance dates. Unaudited financial statements will be required two months after the PHA's fiscal year end, and audited financial statements will be required no later than nine months after the PHA's fiscal year end, in accordance with the Single Audit Act and OMB Circular A-133.

Granted By: Michael Liu, Assistant Secretary for Public and Indian Housing.

Date Granted: April 30, 2003.

Reason Waived: HA requested a waiver (extension of time) to submit its audited financial data. The waiver request indicates that the HA encountered a significant delay in engaging an independent audit firm to conduct its financial audit for the fiscal year ended September 30, 2001. HA provided correspondence that indicated many external audit firms were unable to conduct the work due to workload considerations. The HA was eventually able to engage an auditor to conduct the audits for the fiscal year ended September 30, 2001.

Contact: Judy Wojciechowski, Director, Office of Troubled Agency Recovery, Office of Public and Indian Housing, Department of Housing and Urban Development, 451 Seventh Street, SW., Washington, DC 20410-5000; telephone: (202) 708-4932.

• Regulation: 24 CFR 1000.336.

Project/Activity: The Pueblo of Zuni tribe requested permission to submit a challenge to the data used in computing their Fiscal Year (FY) 2003 Indian Housing Block Grant (IHBG) under the Native American Housing Assistance and Self-Determination Act of 1996.

Nature of Requirement: Section 1000.336 establishes a provision that a tribe, a tribally designated housing entity (TDHE), or HUD may request a waiver of the deadline to challenge data used to compute the IHBG formula allocation.

Reason Waived: Tribes did not receive the data to compute their “needs” variables prior to the deadline to challenge the data.

Granted By: Michael Liu, Assistant Secretary for Public and Indian Housing.

Date Granted: April 4, 2003.

Contact: Deborah Lalancette, Director, Grants Management, Denver Program ONAP, Department of Housing and Urban Development, 1999 Broadway, Suite 3390, Denver, CO 80202-5733; telephone: (303) 675-1625.

[FR Doc. 03-28134 Filed 11-7-03; 8:45 am]

BILLING CODE 4210-32-P